DEPARTMENT OF HEALTH AND HUMAN SERVICES

National Institutes of Health

National Center on Minority Health and Health Disparities; Amended Notice of Meeting

Notice is hereby given of a change in the meeting of the National Advisory Council on Minority Health and Health Disparities, September 12, 2006, 8:30 a.m. to September 12, 2006, 5 p.m., National Institutes of Health, Two Democracy Plaza, 6707 Democracy Boulevard, Bethesda, MD, 20892 which was published in the Federal Register on August 18, 2006, 71 FR 47817.

The meeting location changed to the Bethesda Marriott, 5151 Pooks Hill Rd., Bethesda, Maryland 20814. The meeting is partially closed to the public.

Dated: August 23, 2006.
Anna Snouffer
Acting Director, Office of Federal Advisory Committee Policy.

[FR Doc. 06-7227 Filed 8-29-06; 8:45 am]

BILLING CODE 4140-01-M